DEPARTMENT OF THE INTERIOR

Bureau of Land Management

[LLCAC05000.L51010000.ER0000.LVRWB18B6770.18XL1109AF (MO#4500134877)]

Notice of Intent To Prepare an Environmental Impact Statement for the Proposed Walker Ridge Wind Energy Project and a Potential Amendment to the Ukiah Resource Management Plan, Colusa and Lake Counties, CA

AGENCY: Bureau of Land Management, Interior.

ACTION: Notice of intent.

SUMMARY: In accordance with the National Environmental Policy Act of 1969, as amended (NEPA), and the Federal Land Policy and Management Act of 1976, as amended, the Bureau of Land Management (BLM) Ukiah Field Office, Ukiah, California, intends to prepare an Environmental Impact Statement (EIS) and a potential Resource Management Plan (RMP) amendment for the Ukiah Resource Management Plan. The EIS will analyze the impacts of a proposal by Colusa Wind LLC to build a Type III wind energy project called the Walker Ridge Wind Energy Project in Colusa and Lake counties. This notice announces the beginning of the scoping process to solicit public comments and identify issues.

DATES: This notice initiates the public scoping process for the EIS. Comments on issues may be submitted in writing until July 22, 2019. The date(s) and location(s) of any scoping meetings will be announced at least 15 days in advance on the BLM website at https://www.blm.gov/california.

In order to be included in the analysis, all comments must be received prior to the close of the 30-day scoping period. We will provide additional opportunities for public participation as appropriate.

ADDRESSES: You may submit comments related to the Walker Ridge Wind Energy Project by any of the following methods:

• Website: https://go.usa.gov/xmtGu.

• Email: blm_ca_uk_walkerridgewindproject@blm.gov.

• Mail: BLM Ukiah Field Office, Attn: Walker Ridge Wind Energy Project, 2550 N State Street, Suite 2, Ukiah, CA 95482.

Documents pertinent to this proposal may be examined at the BLM Ukiah Field Office listed earlier.

FOR FURTHER INFORMATION CONTACT: Aleta Nafus, Project Manager, telephone 707-468-4000; address Bureau of Land Management, 940 2nd Ave., Marina, CA 93933; email blm_ca_uk_walkerridgewindproject@blm.gov. Contact Ms. Nafus to have your name added to our mailing list. Persons who use a telecommunications device for the deaf (TDD) may call the Federal Relay Service (FRS) at 1-800-877-8339 to contact Ms. Nafus during normal business hours. The FRS is available 24 hours a day, 7 days a week, to leave a message or question. You will receive a reply during normal business hours.

SUPPLEMENTARY INFORMATION: Colusa Wind LLC is requesting a right-of-way grant to erect up to 42 wind turbines on approximately 2,270 acres of public land along Walker Ridge, within the Indian Valley Management Area in northern California. The proposed project includes widening Walker Ridge Road, constructing a substation, and burying a collection line and tie-in to the existing Pacific Gas and Electric transmission line.

This document provides notice that the BLM Ukiah Field Office, intends to prepare an EIS and potential amendment for the Ukiah RMP, announces the beginning of the scoping process, and seeks public input on issues and planning criteria. The planning area is located in Colusa and Lake counties, California, and encompasses approximately 2,270 acres of public land. The purpose of the public scoping process is to determine relevant issues that will influence the scope of the environmental analysis, including alternatives, and guide the planning process. Preliminary issues for the plan amendment area have been identified by BLM personnel; Federal, State, and local agencies; and other stakeholders. The issues include: Air quality and atmospheric values; biological resources, including special status wildlife and vegetation species; cultural resources; geology and soils; hazards and hazardous materials; hydrology and water quality; lands and realty; mineral resources; noise; paleontological resources; recreation; socioeconomics and environmental justice; special designations; transportation and travel management; visual resources; and wildland fire ecology. If an RMP amendment is necessary, the BLM will integrate the land use planning process with the NEPA process. Preliminary planning criteria include:

1. The plan amendments will be completed in compliance with FLPMA, NEPA, and all other relevant Federal laws, executive orders, and BLM policies;

2. The plan amendment(s) will recognize valid existing rights.

You may submit comments on issues and planning criteria in writing to the BLM at any public scoping meeting, or you may submit them to the BLM using one of the methods listed in the ADDRESSES section earlier. To be most helpful, you should submit comments by the close of the 30-day scoping period or within 15 days after the last public meeting, whichever is later.

The BLM will utilize and coordinate the NEPA scoping process to help fulfill the public involvement process under the National Historic Preservation Act (54 U.S.C. 306108 as provided in 36 CFR 800.2(d)(3)). The information about historic and cultural resources within the area potentially affected by the proposed action will assist the BLM in identifying and evaluating impacts to such resources.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed action that the BLM is evaluating, are invited to participate in the scoping process and, if eligible, may request or be requested by the BLM to participate in the development of the environmental analysis as a cooperating agency.

With respect to the potential RMP amendment, the BLM will evaluate identified issues to be addressed in the plan amendment, and will place them into one of three categories:

1. Issues to be resolved in the plan amendment;

2. Issues to be resolved through policy or administrative action; or

3. Issues beyond the scope of this plan amendment.

The BLM will provide an explanation in the Draft EIS as to why an issue was placed in category two or three. The public is also encouraged to help identify any management questions and concerns that should be addressed in the EIS and potential land use plan amendments. The BLM will work collaboratively with interested parties to identify the management decisions that are best suited to local, regional, and national needs and concerns.

The BLM will use an interdisciplinary approach to develop the EIS and potential land use plan amendments in order to consider the variety of resource issues and concerns identified. Specialists with expertise in the following disciplines will be involved in the planning process: Minerals and geology, outdoor recreation, archaeology, paleontology, wildlife and botany, lands and realty, hydrology, soils, sociology, and economics.

Before including your address, phone number, email address, or other personally identifiable information in your comment, you should be aware that your entire comment—including your personally identifiable information—may be made publicly available at any time. While you can ask us in your comment to withhold your personally identifiable information from public review, we cannot guarantee that we will be able to do so.

(Authority: 40 CFR 1501.7 and 43 CFR 1610.2)

Danielle Chi,
Deputy State Director, Fire and Resources.

[FR Doc. 2019-13248 Filed 6-20-19; 8:45 am]

BILLING CODE 4310-40-P